FEDERAL MARITIME COMMISSION

Ocean Transportation Intermediary License Applicants

Notice is hereby given that the following applicants have filed with the Federal Maritime Commission an application for licenses as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

JTK International Trading, Inc., dba Coastline Trans, 3200 Wilshire Blvd., Suite 1750, Los Angeles, CA 90010; Officers: Jay Tak, Vice President (Qualifying Individuals), Yong Suk Kim, President

Transamerica Leasing Inc., 100 Manhattanville Road, Purchase, NY 10577; Officers: Stuart Downie, Vice President (Qualifying Individual), Brian Sondey, President

Xing Guo Int'l (USA) Inc., 1 Hi Mat Express, 5353 W. Imperial Hwy, Suite 900, Los Angeles, CA 90045; Officer: Tao Liu, President (Qualifying Individual)

Bulk Solutions, Inc., 3108 Central Drive, Plant City, FL 33567; Officers: Breck Reed, President (Qualifying Individual), Donald J. Armagost, Vice President

Non-Vessel Operating Common Carrier and Ocean Freight Forwarder Transportation Intermediary Applicants

Extra Logistics, LLC, 4847 Conquista Avenue, Lakewood, CA 90713; Officer: Petra Gruettner, CEO, Sole Proprietor

Kay O'Neill (USA) LLC, 2745 Armstrong Court, Suite 100, Des Plaines, IL 60018; Officers: Stewart Brown, Exec. Vice President (Qualifying Individual), Charles Kay, President

Ocean Freight Forwarder—Ocean Transportation Intermediary Applicant

AM Express, Inc., 3340 B Greens Road, #400, Houston, TX 77032; Officer: Anthony Mello, President (Qualifying Individual), Juan Carlos Diaz, President

Dated: August 10, 2001.
Bryant L. VanBrakle,
Secretary.

[FR Doc. 01-20556 Filed 8-14-01; 8:45 am]

BILLING CODE 6730-01-P